ENVIRONMENTAL PROTECTION AGENCY

40 CFR Part 52

[EPA-R01-OAR-2023-0186; FRL-12105-03-R1]

Approval and Promulgation of Air Quality Implementation Plans; Connecticut; Regional Haze State Implementation Plan for the Second Implementation Period; Extension of Comment Period

AGENCY: Environmental Protection Agency (EPA).

ACTION: Proposed rule; extension of comment period.

SUMMARY: The Environmental Protection Agency (EPA) is extending the comment period for a proposed rule that published July 19, 2024. The current comment period for the proposed rule was set to end on August 19, 2024. Due to a technical issue, some of the background materials for the proposed rule were not made available to www.regulations.gov until July 24, 2024. The EPA is therefore extending the comment period for the proposed action to August 26, 2024.

DATES: The comment period for the proposed rule published on July 19, 2024, at 89 FR 58663 is extended. Comments must now be received on or before August 26, 2024.

ADDRESSES: Submit your comments, identified by Docket ID No. EPA-R01-OAR-2023-0186 at https://www.regulations.gov, or via email to rackauskas.eric@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the For Further Information Contact section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests if possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Eric Rackauskas, Air Quality Branch, U.S. Environmental Protection Agency, EPA Region 1, 5 Post Office Square—Suite 100, (Mail code 5-MI), Boston, MA 02109-3912, tel. (617) 918-1628, email rackauskas.eric@epa.gov.

SUPPLEMENTARY INFORMATION: On July 19, 2024, the EPA published the proposed rule “Approval and Promulgation of Air Quality Implementation Plans; Connecticut; Regional Haze State Implementation Plan for the Second Implementation” in the Federal Register (89 FR 58663). The original deadline to submit comments was August 19, 2024. This action extends the comment period; written comments must now be received by August 26, 2024.

Dated: July 29, 2024.
David Cash,
Regional Administrator, EPA Region 1.

[FR Doc. 2024-17222 Filed 8-5-24; 8:45 am]

BILLING CODE 6560-50-P